DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 58309, dated September 23, 2013) is amended to reorganize the Office of Public Health Preparedness and Response.

Section C-B, Organization and Functions, is hereby amended as follows:

Revise the functional statement for the Office of the Director (CGC1), Division of State and Local Readiness (CGC), as follows:

Office of the Director (CGC1). (1) Provides national leadership and guidance that supports and advances the work of state, local, tribal and territorial public health emergency preparedness programs; (2) coordinates the development of scientific guidelines and standards for programmatic materials within the division to provide technical assistance and program planning at the state, local, tribal, and territorial level; (3) works with awardees to advance state and local preparedness efforts through placement of CDC field staff within state and local public health agencies; (4) represents the interests and needs of the state, local, tribal, and territorial interests on state and local preparedness; (5) develops and ensures effective partnerships with national stakeholders and preparedness partners; and (6) provides oversight and management of division contracts, technical assistance plan development, training needs, response activities, grantee awards and fiscal accountability, and research agenda development and compliance.

After the title and function statement for the Applied Science and Evaluation Branch (CGCC), Division of State and Local Readiness (CGC), insert the following:

Field Services Branch (CGCD). (1) Provides scientific participation in development and implementation of field-based science initiatives and strategies; (2) provides situational awareness to CDC leadership when activated for public health responses; (3) provides consultation and technical assistance to state, territorial, tribal and local health departments in developing, implementing and evaluating Public Health Preparedness and Response activities and performance in support of CDC recommendations and those of their host site; (4) provides support for public health preparedness and epidemiologic capacity at the state, territorial, tribal, and local levels; (5) contributes as leaders in preparedness and epidemiology for issues including clinical surge capacity, hospital preparedness, and influenza response planning; (6) participates in development of national preparedness and response policies and guidelines for public health emergencies and encourages and facilitates the transfer of guidelines into clinical and public health practice; (7) analyzes data to assess progress toward achieving program objectives and provides input for program management and evaluation reports for publications; (8) participates in the development of comprehensive evaluation methods for OPHPR programs; (9) serves as liaison or focal point to assist state, territorial, tribal and local partners in linking with proper resources, contacts and obtaining technical assistance; (10) provides technical supervision and support for the CDC field staff and trainees as appropriate; (11) provides input into the development of branch and division policy, priorities, and operational procedures; (12) serves as an agent of information or technology transfer to ensure that effective methodology in one program is known and made available to other state and local programs; and (13) analyzes technical and epidemiologic information to present at national and international scientific meetings and publishes programmatic/surveillance/epidemiologic information in collaboration with host agencies.

Dated: September 27, 2013.
Sherri A. Berger,
Chief Operating Officer, Centers for Disease Control and Prevention.

[FR Doc. 2013-24941 Filed 10-24-13; 8:45 am]

BILLING CODE 4160-18-M